DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory and Deregulatory Agenda; Semiannual Summary

AGENCY: Office of the Secretary, Department of Transportation.

ACTION: Unified Agenda of Federal Regulatory and Deregulatory Actions (Regulatory Agenda).

SUMMARY: The Regulatory Agenda is a semiannual summary of all current and projected rulemakings, reviews of existing regulations, and completed rulemaking actions of the Department of Transportation (DOT). The Regulatory Agenda provides the public with information about DOT's planned regulatory activity for the next 12 months. This information enables the public to participate in the Department's regulatory process. The public is encouraged to submit comments on any aspect of this Regulatory Agenda.

FOR FURTHER INFORMATION CONTACT: Please direct all general comments and inquiries on the Regulatory Agenda to Daniel Cohen, Assistant General Counsel for Regulation, Office of the General Counsel, Department of Transportation, 1200 New Jersey Avenue SE, Washington, DC 20590; (202) 366-4702. Please direct all comments and inquiries relative to specific items in the Regulatory Agenda to the individual listed in the summary of each regulation.

To obtain a copy of a specific regulatory document in the Regulatory Agenda, you should communicate directly with the contact person listed with the regulation. We note that most such documents, including the Semiannual Regulatory Agenda, are available through the internet at http://www.regulations.gov.

SUPPLEMENTARY INFORMATION:

Purpose

The Department is publishing this Regulatory Agenda in the Federal Register to share with interested members of the public the Department's preliminary expectations regarding its future regulatory actions. The information contained in the Regulatory Agenda should enable the public to be aware of the Department's planned regulatory activities and should result in more effective public participation. This publication in the Federal Register does not impose any binding obligation on the Department or any of the offices within the Department about any specific item on the Regulatory Agenda. Regulatory action, in addition to the items listed, is not precluded.

Request for Comments

General

DOT's Regulatory Agenda is intended primarily for the use of the public. Since its inception, the Department has made modifications and refinements that provide the public with more helpful information, as well as making the Regulatory Agenda easier to use. We would like you, the public, to make suggestions or comments on how the Regulatory Agenda could be further improved.

Regulatory Flexibility Act

The Department has long recognized the importance of regularly reviewing its existing regulations to determine whether they need to be revised or revoked. Our Regulatory Policies and Procedures require such reviews. DOT also has responsibilities under section 610 of the Regulatory Flexibility Act, Executive Order 12866, “Regulatory Planning and Review,” and Executive Order 13563, “Improving Regulation and Regulatory Review,” 76 FR 3821 (January 18, 2011) to conduct such reviews. We are committed to continuing our reviews of existing rules and, if it is needed, will initiate rulemaking actions based on these reviews. Generally, each DOT operating administration divides its rules into 10 different groups and plans to analyze one group each year. In each Fall Regulatory Agenda, each operating administration will publish the results of the analyses it has completed during the previous year. The most recent results appeared in the Department's 2022 Fall Regulatory Agenda Preamble, which was published in the Federal Register on February 22, 2023. The Department is interested in obtaining information on requirements that have a “significant economic impact on a substantial number of small entities” and, therefore, must be reviewed under the Regulatory Flexibility Act. If you have any suggested regulations, please submit them to the Department, along with your explanation of why they should be reviewed.

Consultation With State, Local, and Tribal Governments

Executive Orders 13132 and 13175 require the Department to develop a process to ensure “meaningful and timely input” by State, local, and Tribal officials in the development of regulatory policies that have federalism or tribal implications. These policies are defined in the Executive orders to include regulations that have “substantial direct effects” on States or Indian Tribes, on the relationship between the Federal Government and them, or on the distribution of power and responsibilities between the Federal Government and various levels of Government or Indian tribes. Therefore, we encourage State and local Governments or Indian Tribes to provide us with information about how the Department's rulemakings impact them.

John Edward Putnam,
General Counsel, Department of Transportation.

Office of the Secretary—Final Rule Stage
Sequence No. | Title | Regulation Identifier No.
135 | ++ A Refunding Airline Tickets and Fees for Delayed Checked Bags and Ancillary Services That are not Provided | 2105-AF04
+ DOT-designated significant regulation.

Federal Aviation Administration—Proposed Rule Stage
Sequence No. | Title | Regulation Identifier No.
136 | Requirements to File Notice of Construction of Meteorological Evaluation Towers and Other Renewable Energy Projects (Section 610 Review) (Section 610 Review) | 2120-AK77

Federal Aviation Administration—Final Rule Stage
Sequence No. | Title | Regulation Identifier No.
137 | + Registration and Marking Requirements for Small Unmanned Aircraft | 2120-AK82
+ DOT-designated significant regulation.

Federal Aviation Administration—Long-Term Actions
Sequence No. | Title | Regulation Identifier No.
138 | + Regulation Of Flight Operations Conducted By Alaska Guide Pilots | 2120-AJ78
139 | + Drug and Alcohol Testing of Certain Maintenance Provider Employees Located Outside of the United States | 2120-AK09
140 | + Applying the Flight, Duty, and Rest Requirements to Ferry Flights That Follow Commuter or On-Demand Operations (FAA Reauthorization) | 2120-AK26
141 | + Aircraft Registration and Airmen Certification Fees | 2120-AK37
142 | + Helicopter Air Ambulance Pilot Training and Operational Requirements (HAA II) (FAA Reauthorization) | 2120-AK57
+ DOT-designated significant regulation.

Federal Aviation Administration—Completed Actions
Sequence No. | Title | Regulation Identifier No.
143 | + Airport Safety Management System | 2120-AJ38
+ DOT-designated significant regulation.

Federal Motor Carrier Safety Administration—Proposed Rule Stage
Sequence No. | Title | Regulation Identifier No.
144 | Self-Insurance Program Cost Recovery (Section 610 Review) | 2126-AC58

Federal Motor Carrier Safety Administration—Long-Term Actions
Sequence No. | Title | Regulation Identifier No.
145 | + Safety Monitoring System and Compliance Initiative for Mexico-Domiciled Motor Carriers Operating in the United States | 2126-AA35
+ DOT-designated significant regulation.

Federal Railroad Administration—Final Rule Stage
Sequence No. | Title | Regulation Identifier No.
146 | + Train Crew Staffing | 2130-AC88
+ DOT-designated significant regulation.

Saint Lawrence Seaway Development Corporation—Completed Actions
Sequence No. | Title | Regulation Identifier No.
147 | Seaway Regulations and Rules: Periodic Update, Various Categories (Completion of a Section 610 Review) | 2135-AA51
148 | Tariff of Tolls (Completion of a Section 610 Review) | 2135-AA52
149 | Seaway Regulations and Rules: Periodic Update, Various Categories (Completion of a Section 610 Review) | 2135-AA53
150 | Tariff of Tolls (Completion of a Section 610 Review) | 2135-AA54

Pipeline and Hazardous Materials Safety Administration—Proposed Rule Stage
Sequence No. | Title | Regulation Identifier No.
151 | Pipeline Safety: Gas Pipeline Leak Detection and Repair | 2137-AF51
152 | + Pipeline Safety: Pipeline Operational Status | 2137-AF52
153 | + Pipeline Safety: Safety of Gas Distribution Pipelines and Other Pipeline Safety Initiatives | 2137-AF53
+ DOT-designated significant regulation.

Pipeline and Hazardous Materials Safety Administration—Completed Actions
Sequence No. | Title | Regulation Identifier No.
154 | + Hazardous Materials: Enhanced Safety Provisions for Lithium Batteries Transported by Aircraft (FAA Reauthorization Act of 2018) | 2137-AF20
+ DOT-designated significant regulation.

Maritime Administration—Proposed Rule Stage
Sequence No. | Title | Regulation Identifier No.
155 | + Cargo Preference—U.S. Flag Vessels Regulatory Update (Section 610 Review) | 2133-AB97
156 | + Amendment to the Federal Ship Financing Program Regulations; Financial Requirements (Section 610 Review) | 2133-AB98
+ DOT-designated significant regulation.

Maritime Administration—Final Rule Stage
Sequence No. | Title | Regulation Identifier No.
157 | + Establishing Safe and Secure Merchant Marine Training (Section 610 Review) | 2133-AB99
+ DOT-designated significant regulation.

DEPARTMENT OF TRANSPORTATION (DOT)

Office of the Secretary (OST)

Final Rule Stage

135. ++ A Refunding Airline Tickets and Fees for Delayed Checked Bags and Ancillary Services That Are Not Provided [2105-AF04]

Legal Authority: 49 U.S.C. 41712; 49 U.S.C. 40101, 49 U.S.C. 41702

Abstract: The Department of Transportation has consistently interpreted 49 U.S.C. 41712, which prohibits U.S. air carriers, foreign air carriers, and ticket agents from engaging in unfair practices in the sale of air transportation, to require carriers and ticket agents to provide requested refunds to passengers when a carrier cancels or significantly changes a flight to, from, or within the United States. This rulemaking would clarify that, under the Department's rule requiring airlines to provide prompt refunds when ticket refunds are due and its rule requiring ticket agents to make refunds promptly when service cannot be performed as contracted, carriers and ticket agents must provide prompt ticket refunds to passengers when a carrier cancels or makes a significant change to a flight. This rulemaking would define cancellation and significant change, including addressing whether new itineraries involving delays of a certain length or additional stops constitute a significant change requiring a refund. This rulemaking would also address protections for consumers who are unable to travel due to government restrictions. In addition, the rulemaking under RIN 2105-AE53 has been merged into this rulemaking. As such, this rulemaking would also require airlines to refund checked baggage fees when they fail to deliver the bags in a timely manner as provided by the FAA Extension, Safety and Security Act of 2016, and require airlines to promptly provide a refund to a passenger of any ancillary fees paid for services that the passenger did not receive as provided by the FAA Reauthorization Act of 2018.

Timetable:

Action | Date | FR Cite
NPRM | 08/22/22 | 87 FR 51550
NPRM Comment Period End | 03/28/23
Final Rule | 11/00/23

Regulatory Flexibility Analysis Required: Yes.

Agency Contact: Blane A. Workie, Assistant General Counsel, Department of Transportation, Office of the Secretary, 1200 New Jersey Avenue SE, Washington, DC 20590, Phone: 202 366-9342, Fax: 202 366-7153, Email: blane.workie@dot.gov.

RIN: 2105-AF04

DEPARTMENT OF TRANSPORTATION (DOT)

Federal Aviation Administration (FAA)

Proposed Rule Stage

136. Requirements To File Notice of Construction of Meteorological Evaluation Towers and Other Renewable Energy Projects (Section 610 Review) (Section 610 Review) [2120-AK77]

Legal Authority: 49 U.S.C. 40103

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Pub. L. 114-190).

Timetable:

Action | Date | FR Cite
NPRM | 08/00/23

Regulatory Flexibility Analysis Required: No.

Agency Contact: Juan Yanguas, Department of Transportation, Federal Aviation Administration, 800 Independence Avenue SW, Washington, DC 20591, Phone: 202 267-1082, Email: juan.s.yanguas@faa.gov.

RIN: 2120-AK77

DEPARTMENT OF TRANSPORTATION (DOT)

Federal Aviation Administration (FAA)

Final Rule Stage

137. +Registration and Marking Requirements for Small Unmanned Aircraft [2120-AK82]

Legal Authority: 49 U.S.C. 106(f), 49 U.S.C. 41703, 44101 to 44106, 44110 to 44113, and 44701

Abstract: This rulemaking would provide an alternative, streamlined and simple, web-based aircraft registration process for the registration of small, unmanned aircraft, including small unmanned aircraft operated exclusively for limited recreational operations, to facilitate compliance with the statutory requirement that all aircraft register prior to operation. It would also provide a simpler method for marking small, unmanned aircraft that is more appropriate for these aircraft. This action responds to public comments received regarding the proposed registration process in the Operation and Certification of Small Unmanned Aircraft notice of proposed rulemaking, the request for information regarding unmanned aircraft system registration, and the recommendations from the Unmanned Aircraft System Registration Task Force.

Timetable:

Action | Date | FR Cite
Interim Final Rule | 12/16/15 | 80 FR 78593
Interim Final Rule Effective | 12/21/15
OMB approval of information collection | 12/21/15 | 80 FR 79255
Interim Final Rule Comment Period End | 01/15/16
Final Rule | 02/00/24

Regulatory Flexibility Analysis Required: Yes.

Agency Contact: Bonnie Lefko, Department of Transportation, Federal Aviation Administration, 6500 S MacArthur Boulevard, Registry Building 26, Room 118, Oklahoma City, OK 73169, Phone: 866 762-9434, Email: bonnie.lefko@faa.gov.

RIN: 2120-AK82

DEPARTMENT OF TRANSPORTATION (DOT)

Federal Aviation Administration (FAA)

Long-Term Actions

138. +Regulation of Flight Operations Conducted by Alaska Guide Pilots [2120-AJ78]

Legal Authority: 49 U.S.C. 106(g) ; 49 U.S.C. 1153; 49 U.S.C. 1155; 49 U.S.C. 40101 to 40103; 49 U.S.C. 40113; 49 U.S.C. 40120; 49 U.S.C. 44101; 49 U.S.C. 44105 to 44016; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 to 46316; 49 U.S.C. 46504; 49 U.S.C. 46506 to 46507; 49 U.S.C. 47122; 49 U.S.C. 47508; 49 U.S.C. 47528 to 47531; Articles 12 and 29 of 61 Statue 1180; P.L. 106-181, Sec. 732

Abstract: The rulemaking would establish regulations concerning Alaska guide pilot operations. The rulemaking would implement Congressional legislation and establish additional safety requirements for the conduct of these operations. The intended effect of this rulemaking is to enhance the level of safety for persons and property transported in Alaska guide pilot operations. In addition, the rulemaking would add a general provision applicable to pilots operating under the general operating and flight rules concerning falsification, reproduction, and alteration of applications, logbooks, reports, or records. This rulemaking is a statutory mandate under section 732 of the Wendell H. Ford Aviation Investment and Reform Act for the 21st Century, (Pub. L. 106-181).

Timetable: Next Action Undetermined.

Regulatory Flexibility Analysis Required: Yes.

Agency Contact: Jeff Smith, Department of Transportation, Federal Aviation Administration, 800 Independence Avenue SW, Washington, DC 20785, Phone: 202 365-3617, Email: jeffrey.smith@faa.gov.

RIN: 2120-AJ78

139. +Drug and Alcohol Testing of Certain Maintenance Provider Employees Located Outside of the United States [2120-AK09]

Legal Authority: 14 CFR; 49 U.S.C. 106(g); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This action is necessary to increase the level of safety of the flying public. This rulemaking is a statutory mandate under section 308(d) of the FAA Modernization and Reform Act of 2012 (Pub. L. 112-95).

Timetable:

Action | Date | FR Cite
ANPRM | 03/17/14 | 79 FR 14621
Comment Period Extended | 05/01/14 | 79 FR 24631
ANPRM Comment Period End | 05/16/14
Comment Period End | 07/17/14
Next Action Undetermined

Regulatory Flexibility Analysis Required: Yes.

Agency Contact: Julia Brady, Program Analyst, Program Policy Branch, Department of Transportation, Federal Aviation Administration, 800 Independence Avenue SW, Washington, DC 20591, Phone: 202 267-8083, Email: julia.brady@faa.gov.

RIN: 2120-AK09

140. +Applying the Flight, Duty, and Rest Requirements to Ferry Flights That Follow Commuter or On-Demand Operations (FAA Reauthorization) [2120-AK26]

Legal Authority: 49 U.S.C. 106(f); 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable: Next Action Undetermined.

Regulatory Flexibility Analysis Required: Yes.

Agency Contact: Chester Piolunek, Department of Transportation, Federal Aviation Administration, 800 Independence Avenue SW, Washington, DC 20591, Phone: 202 267-3711, Email: chester.piolunek@faa.gov.

RIN: 2120-AK26

141. +Aircraft Registration and Airmen Certification Fees [2120-AK37]

Legal Authority: 31 U.S.C. 9701; 4 U.S.C. 1830; 49 U.S.C. 106(f); 49 U.S.C. 106(g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; Pub. L. 108-297, 118 Stat.

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
Next Action Undetermined | To Be Determined

Regulatory Flexibility Analysis Required: Yes.

Agency Contact: Isra Raza, Department of Transportation, Federal Aviation Administration, 800 Independence Avenue SW, Washington, DC 20591, Phone: 202 267-8994, Email: isra.raza@faa.gov.

RIN: 2120-AK37

142. +Helicopter Air Ambulance Pilot Training and Operational Requirements (HAA II) (FAA Reauthorization) [2120-AK57]

Legal Authority: 49 U.S.C. 106(f); 49 U.S.C. 106(g); 49 U.S.C. 40113; 49 U.S.C. 41706; 49 U.S.C. 44701; 49 U.S.C. 44702; 49 U.S.C. 44705; 49 U.S.C. 44709; 49 U.S.C. 44711 to 44713; 49 U.S.C. 44715 to 44717; 49 U.S.C. 44722; 49 U.S.C. 44730; 49 U.S.C. 45101 to 45105

Abstract: This rulemaking would develop training requirements for crew resource management, flight risk evaluation, and operational control of the pilot in command, as well as to develop standards for the use of flight simulation training devices and line-oriented flight training. Additionally, it would establish requirements for the use of safety equipment for flight crewmembers and flight nurses. These changes will aide in the increase in aviation safety and increase survivability in the event of an accident. Without these changes, the Helicopter Air Ambulance industry may continue to see the unacceptable high rate of aircraft accidents. This rulemaking is a statutory mandate under section 306(e) of the FAA Modernization and Reform Act of 2012 (Pub. L. 112-95).

Timetable: Next Action Undetermined.

Regulatory Flexibility Analysis Required: Yes.

Agency Contact: Chris Holliday, Department of Transportation, Federal Aviation Administration, 800 Independence Avenue SW, Washington, DC 20591, Phone: 202 267-4552, Email: chris.holliday@faa.gov.

RIN: 2120-AK57

DEPARTMENT OF TRANSPORTATION (DOT)

Federal Aviation Administration (FAA)

Completed Actions

143. +Airport Safety Management System [2120-AJ38]

Legal Authority: 49 U.S.C. 44706; 49 U.S.C. 106(g); 49 U.S.C. 40113; 49 U.S.C. 44701 to 44706; 49 U.S.C. 44709; 49 U.S.C. 44719

Abstract: This rulemaking would require certain airport certificate holders to develop, implement, maintain, and adhere to a safety management system (SMS) for its aviation related activities. An SMS is a formalized approach to managing safety by developing an organization-wide safety policy, developing formal methods of identifying hazards, analyzing and mitigating risk, developing methods for ensuring continuous safety improvement, and creating organization-wide safety promotion strategies.

Timetable:

Action | Date | FR Cite
NPRM | 10/07/10 | 75 FR 62008
NPRM Comment Period Extended | 12/10/10 | 75 FR 76928
NPRM Comment Period End | 01/05/11
End of Extended Comment Period | 03/07/11
Second Extension of Comment Period | 03/07/11 | 76 FR 12300
End of Second Extended Comment Period | 07/05/11
Second NPRM | 07/14/16 | 81 FR 45871
Second NPRM Comment Period End | 09/12/16
Final Rule | 02/23/23 | 88 FR 11642
Final Rule Effective | 04/24/23

Regulatory Flexibility Analysis Required: Yes.

Agency Contact: James Schroeder, Office of Airport Safety and Standards, Department of Transportation, Federal Aviation Administration, 800 Independence Avenue SW, Washington, DC 20591, Phone: 202 267-4974, Email: james.schroeder@faa.gov.

RIN: 2120-AJ38

BILLING CODE 4910-13-P

DEPARTMENT OF TRANSPORTATION (DOT)

Federal Motor Carrier Safety Administration (FMCSA)

Proposed Rule Stage

144. Self-Insurance Program Cost Recovery (Section 610 Review) [2126-AC58]

Legal Authority: 31 U.S.C. 9701 and 49 U.S.C. 13906(d); 49 U.S.C. 13908(d)

Abstract: FMCSA will propose to amend fees collected for the processing of new self-insurance applications and add new fees for ongoing monitoring of carrier compliance with the self-insurance program requirements. Application fees will be directed to FMCSA's Licensing and Insurance (L&I) Account while monitoring fees must be sent to the Treasury. This rulemaking will amend 49 CFR 360.3T/360.3 to ensure that the limited number of primarily large motor carriers that benefit from the program bear a proportionate cost of participating in the program. FMCSA may also need to amend 49 CFR 360.5T/360.5 to reflect any specific updates to the user fee methodology that are required by this rulemaking.

Timetable:

Action | Date | FR Cite
NPRM | 06/00/23

Regulatory Flexibility Analysis Required: No.

Agency Contact: Kenneth Riddle, Office Director, Department of Transportation, Federal Motor Carrier Safety Administration, 1200 New Jersey Avenue SE, W65-308, Washington, DC 20590, Phone: 202 366-9616, Email: kenneth.riddle@dot.gov.

RIN: 2126-AC58

DEPARTMENT OF TRANSPORTATION (DOT)

Federal Motor Carrier Safety Administration (FMCSA)

Long-Term Actions

145. +Safety Monitoring System and Compliance Initiative for Mexico-Domiciled Motor Carriers Operating in the United States [2126-AA35]

Legal Authority: Pub. L. 107-87, sec. 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003.

Timetable:

Action | Date | FR Cite
NPRM | 05/03/01 | 66 FR 22415
NPRM Comment Period End | 07/02/01
Interim Final Rule | 03/19/02 | 67 FR 12758
Interim Final Rule Comment Period End | 04/18/02
Interim Final Rule Effective | 05/03/02
Notice of Intent to Prepare an EIS | 08/26/03 | 68 FR 51322
EIS Public Scoping Meetings | 10/08/03 | 68 FR 58162
Next Action Undetermined

Regulatory Flexibility Analysis Required: Yes.

Agency Contact: Sarah Stella, Department of Transportation, Federal Motor Carrier Safety Administration, 1200 New Jersey Avenue SE, Washington, DC 20590, Phone: 202 366-0192, Email: sarah.stella@dot.gov.

RIN: 2126-AA35

BILLING CODE 4910-EX-P

DEPARTMENT OF TRANSPORTATION (DOT)

Federal Railroad Administration (FRA)

Final Rule Stage

146. +Train Crew Staffing [2130-AC88]

Legal Authority: 49 CFR 1.89(a); 49 U.S.C. 20103

Abstract: This rulemaking would address the potential safety impact of one-person train operations, including appropriate measures to mitigate an accident's impact and severity, and the patchwork of State laws concerning minimum crew staffing requirements. This rulemaking would address the issue of minimum requirements for the size of train crews, depending on the type of operations.

Timetable:

Action | Date | FR Cite
NPRM | 07/28/22 | 87 FR 45564
NPRM Comment Period End | 12/21/22
Final Rule | 02/00/24

Regulatory Flexibility Analysis Required: Yes.

Agency Contact: Amanda Maizel, Attorney-Adviser, Department of Transportation, Federal Railroad Administration, 1200 New Jersey Avenue SE, Washington, DC 20590, Phone: 202 493-8014, Email: amanda.maizel@dot.gov.

RIN: 2130-AC88

BILLING CODE 4910-06-P

DEPARTMENT OF TRANSPORTATION (DOT)

Saint Lawrence Seaway Development Corporation (SLSDC)

Completed Actions

147. Seaway Regulations and Rules: Periodic Update, Various Categories (Completion of a Section 610 Review) [2135-AA51]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories.

Timetable:

Action | Date | FR Cite
Final Action | 03/07/22 | 87 FR 12590
Final Rule Effective | 03/21/22

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA51

148. Tariff of Tolls (Completion of a Section 610 Review) [2135-AA52]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Tariff of Tolls in their respective jurisdictions. The Tariff sets forth the level of tolls assessed on all commodities and vessels transiting the facilities operated by the GLS and the SLSMC.

Timetable:

Action | Date | FR Cite
Final Action | 03/02/22 | 87 FR 11585
Final Rule Effective | 03/02/22

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA52

149. Seaway Regulations and Rules: Periodic Update, Various Categories (Completion of a Section 610 Review) [2135-AA53]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories.

Timetable:

Action | Date | FR Cite
Final Rule | 03/08/23 | 88 FR 14266
Final Rule Effective | 03/22/23 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA53

150. Tariff of Tolls (Completion of a Section 610 Review) [2135-AA54]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Tariff of Tolls in their respective jurisdictions. The Tariff sets forth the level of tolls assessed on all commodities and vessels transiting the facilities operated by the GLS and the SLSMC.

Timetable:

Action | Date | FR Cite
Final Action | 03/13/23 | 88 FR 15274
Final Action; Correction | 03/20/23 | 88 FR 16556
Final Rule Effective | 03/22/23 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA54

BILLING CODE 4910-61-P

DEPARTMENT OF TRANSPORTATION (DOT)

Pipeline and Hazardous Materials Safety Administration (PHMSA)

Proposed Rule Stage

151. Pipeline Safety: Gas Pipeline Leak Detection and Repair [2137-AF51]

Legal Authority: 49 U.S.C. 60101 et seq.

Abstract: This rulemaking would amend the pipeline safety regulations to enhance requirements for detecting and repairing leaks on new and existing natural gas distribution, gas transmission, and gas gathering pipelines. The proposed rule is necessary to respond to a mandate from section 113 of the Protecting our Infrastructure of Pipelines and Enhancing Safety Act of 2020.

Timetable:

Action | Date | FR Cite
NPRM | 05/18/23 | 88 FR 31890
NPRM Comment Period End | 07/17/23 |

Regulatory Flexibility Analysis Required: Yes.

Agency Contact: Sayler Palabrica, Department of Transportation, Pipeline and Hazardous Materials Safety Administration, 1200 New Jersey Avenue SE, District of Columbia, DC 20590, Phone: 202 366-0559, Email: sayler.palabrica@dot.gov.

RIN: 2137-AF51

152. +Pipeline Safety: Pipeline Operational Status [2137-AF52]

Legal Authority: 49 U.S.C. 60101 et seq.

Abstract: This rulemaking would amend the pipeline safety regulations to define an idled operational status for natural gas and hazardous liquid pipelines that are temporarily removed from service, set operations and maintenance requirements for idled pipelines, and establish inspection requirements for idled pipelines that are returned to service. The proposed rule is necessary to respond to a mandate from the Protecting our Infrastructure of Pipelines and Enhancing Safety Act of 2020.

Timetable:

Action | Date | FR Cite
NPRM | 11/00/23 |

Regulatory Flexibility Analysis Required: Yes.

Agency Contact: Sayler Palabrica, Department of Transportation, Pipeline and Hazardous Materials Safety Administration, 1200 New Jersey Avenue SE, District of Columbia, DC 20590, Phone: 202 366-0559, Email: sayler.palabrica@dot.gov.

RIN: 2137-AF52

153. +Pipeline Safety: Safety of Gas Distribution Pipelines and Other Pipeline Safety Initiatives [2137-AF53]

Legal Authority: 49 U.S.C. 60101 et seq.

Abstract: This rulemaking would amend the pipeline safety regulations to enhance the safety requirements for gas distribution pipelines. The proposed rule is necessary to respond to several mandates from title II of the Protecting our Infrastructure of Pipelines and Enhancing Safety Act of 2020 (PIPES Act of 2020).

Timetable:

Action | Date | FR Cite
NPRM | 07/00/23 |

Regulatory Flexibility Analysis Required: Yes.

Agency Contact: Ashlin Bollacker, Technical Writer, Department of Transportation, Pipeline and Hazardous Materials Safety Administration, 1200 New Jersey Avenue SE, Washington DC 20590, Phone: 202 366-4203, Email: ashlin.bollacker@dot.gov.

RIN: 2137-AF53

DEPARTMENT OF TRANSPORTATION (DOT)

Pipeline and Hazardous Materials Safety Administration (PHMSA)

Completed Actions

154. +Hazardous Materials: Enhanced Safety Provisions for Lithium Batteries Transported by Aircraft (FAA Reauthorization Act of 2018) [2137-AF20]

Legal Authority: 49 U.S.C. 44701; 49 U.S.C. 5103(b); 49 U.S.C. 5120(b)

Abstract: This rulemaking amends the Hazardous Materials Regulations (HMR) to: (1) prohibit the transport of lithium ion cells and batteries as cargo on passenger aircraft; (2) require all lithium ion cells and batteries to be shipped at not more than a 30 percent state of charge on cargo-only aircraft; and (3) limit the use of alternative provisions for small lithium cell or battery to one package per consignment. The amendments do not restrict passengers or crew members from bringing personal items or electronic devices containing lithium cells or batteries aboard aircraft, or restrict the air transport of lithium ion cells or batteries when packed with or contained in equipment. To accommodate persons in areas potentially not serviced daily by cargo aircraft, PHMSA provides a limited exception for not more than two replacement lithium cells or batteries specifically used for medical devices to be transported by passenger aircraft and at a state of charge greater than 30 percent, under certain conditions and as approved by the Associate Administrator. This rulemaking is necessary to meet the FAA Reauthorization Act of 2018, address a safety hazard, and harmonize the HMR with emergency amendments to the 2015-2016 edition of the International Civil Aviation Organization's Technical Instructions for the Safe Transport of Dangerous Goods by Air.

Timetable:

Action | Date | FR Cite
Interim Final Rule | 03/06/19 | 84 FR 8006
Interim Final Rule Effective | 03/06/19 |
Interim Final Rule Comment Period End | 05/06/19 |
Final Rule | 12/21/22 | 87 FR 77995
Final Rule Effective | 01/20/23 |

Regulatory Flexibility Analysis Required: Yes.

Agency Contact: Eugenio Cardez, Transportation Regulations Specialist, Department of Transportation, Pipeline and Hazardous Materials Safety Administration, 1200 New Jersey Avenue SE, Washington, DC 20590, Phone: 202 366-8553, Email: eugenio.cardez@dot.gov.

RIN: 2137-AF20

BILLING CODE 4910-60-P

DEPARTMENT OF TRANSPORTATION (DOT)

Maritime Administration (MARAD)

Proposed Rule Stage

155. • +Cargo Preference—U.S. Flag Vessels Regulatory Update (Section 610 Review) [2133-AB97]

Legal Authority: FY23 NDAA, Pub. L. 117-263; 46 U.S.C. 55305; 49 CFR 1.93(a)

Abstract: The purpose of this rulemaking is to respond to a statutory directive in section 3502 of the National Defense Authorization Act for Fiscal Year 2023 (FY23 NDAA) requiring MARAD to issue a final rule to implement and enforce the cargo preference requirements in 46 U.S.C. 55305(d).

Timetable:

Action | Date | FR Cite
NPRM | 08/00/23 |

Regulatory Flexibility Analysis Required: Undetermined.

Agency Contact: Thomas Mitchell Hudson, Department of Transportation, Maritime Administration, 1200 New Jersey Avenue SE, Washington, DC 20590, Phone: 202 366-9373, Email: mitch.hudson@dot.gov.

RIN: 2133-AB97

156. • +Amendment to the Federal Ship Financing Program Regulations; Financial Requirements (Section 610 Review) [2133-AB98]

Legal Authority: National Defense Authorization Act for Fiscal Year 2020, Pub. L. 116-92; 46 U.S.C. ch. 537; 49 CFR 1.93(a)

Abstract: The proposed rule is intended to update the lending parameters in the current regulations, which no longer best achieve the intended purpose of minimizing the risk of Title XI Program defaults, and to better align the lending practices to reflect federal credit and maritime lending best practices. MARAD expects that the proposed regulations will reduce the economic burden on applicants in complying with Title XI Program requirements that are inconsistent with other lending instruments. MARAD also expects that the updated lending parameters could encourage the construction of vessels in United States shipyards which otherwise would not meet the current constrained Title XI Program financial requirements.

Timetable:

Action | Date | FR Cite
NPRM | 04/25/23 | 88 FR 24962
NPRM Comment Period End | 06/26/23 |
Final Rule | 09/00/23 |

Regulatory Flexibility Analysis Required: No.

Agency Contact: Mitch Hudson, Attorney, Department of Transportation, Maritime Administration, 1200 New Jersey Avenue SE, Washington, DC 20590, Phone: 202 366-9373, Email: mitch.hudson@dot.gov.

RIN: 2133-AB98

DEPARTMENT OF TRANSPORTATION (DOT)

Maritime Administration (MARAD)

Final Rule Stage

157. • +Establishing Safe and Secure Merchant Marine Training (Section 610 Review) [2133-AB99]

Legal Authority: FY23 NDAA, Pub. L. 117-263; 46 U.S.C. chapter 513; 49 CFR 1.93(a)

Abstract: The purpose of this regulation is to improve the safety and efficiency of the United States merchant marine through the prevention of, and response to, sexual harassment, dating violence, domestic violence, and sexual assault onboard vessels on which merchant marine cadets are embarked for training purposes.

Timetable:

Action | Date | FR Cite
Final Action | 07/00/23 |

Regulatory Flexibility Analysis Required: Undetermined.

Agency Contact: Thomas Mitchell Hudson, Department of Transportation, Maritime Administration, 1200 New Jersey Avenue SE, Washington, DC 20590, Phone: 202 366-9373, Email: mitch.hudson@dot.gov.

RIN: 2133-AB99

[FR Doc. 2023-14549 Filed 7-26-23; 8:45 am]

BILLING CODE 4910-81-P